DEPARTMENT OF COMMERCE

Foreign-Trade Zones Board

[Order No. 1723]

Reorganization of Foreign-Trade Zone 152 Under Alternative Site Framework Burns Harbor, IN

Pursuant to its authority under the Foreign-Trade Zones Act of June 18, 1934, as amended (19 U.S.C. 81a-81u), the Foreign-Trade Zones Board (the Board) adopts the following Order:

Whereas, the Board adopted the alternative site framework (ASF) in December 2008 (74 FR 1170, 01/12/09; correction 74 FR 3987, 01/22/09) as an option for the establishment or reorganization of general-purpose zones;

Whereas, the Ports of Indiana, grantee of Foreign-Trade Zone 152, submitted an application to the Board (FTZ Docket 32-2010, filed 5/4/2010) for authority to reorganize under the ASF with a service area of Lake, Porter, La Porte, Newton, Jasper and Starke Counties, Indiana, adjacent to the Chicago Customs and Border Protection port of entry, and FTZ 152's existing Sites 1 through 6 would be categorized as magnet sites;

Whereas, notice inviting public comment was given in the Federal Register (75 FR 26198, 5/11/2010) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to reorganize FTZ 152 under the alternative site framework is approved, subject to the FTZ Act and the Board's regulations, including Section 400.28, to the Board's standard 2,000-acre activation limit for the overall general-purpose zone project, and to a five-year ASF sunset provision for magnet sites that would terminate authority for Sites 1 and 3 through 6 if not activated by November 30, 2015.

Signed at Washington, DC, November 15, 2010.
Ronald K. Lorentzen,
Deputy Assistant Secretary for Import Administration, Alternate Chairman, Foreign-Trade Zones Board.

[FR Doc. 2010-29835 Filed 11-24-10; 8:45 am]

BILLING CODE 3510-DS-P